DEPARTMENT OF JUSTICE

Parole Commission

Sunshine Act Meeting; Public Announcement Pursuant to the Government in the Sunshine Act (Pub. L. 94-409) (5 U.S.C. 552b)

agency holding meeting: Department of Justice, United States Parole Commission.

time and date: 9:30 a.m., Tuesday, April 13, 2004.

place: 5550 Friendship Blvd., Fourth Floor, Chevy Chase, MD 20815.

status: Open.

matters to be considered: The following matters have been placed on the agenda for the open Parole Commission meeting:

1. Approval of Minutes of Previous Commission Meeting.

2. Reports from the Chairman, Commissioners, Legal, Chief of Staff, Case Operations, and Administrative Sections.

3. Approval of Revised Parole Form F-2.

4. Approval of Rules and Procedures Memorandum 2003-01.

5. Discussion of Proposal to Amend 28 CFR 2.12(a).

agency contact: Thomas W. Hutchison, Chief of Staff, United States Parole Commission, (301) 492-5990.

Dated: April 7, 2004.
Rockne Chickinell,
General Counsel, U.S. Parole Commission.

[FR Doc. 04-8288 Filed 4-8-04; 9:54 am]

BILLING CODE 4410-31-M